ADMINISTRATIVE CONFERENCE OF THE UNITED STATES

Notice of Public Meeting of the Committee on Administration and Management

AGENCY: Administrative Conference of the United States.

ACTION: Notice of Meeting.

SUMMARY: Notice is hereby given that the Administrative Conference of the United States will host a public meeting of the Committee on Administration and Management of the Assembly of the Conference on Wednesday, March 16, 2011 from 9 a.m. to 12 noon to consider a draft recommendation concerning the ethics rules applicable to government contractors and their employees. To facilitate public participation, the Administrative Conference is inviting public comment on the recommendation to be considered at the meeting, to be submitted in writing no later than 12 noon on March 15, 2011.

DATES: Meeting to be held March 16, 2011. Comments must be received by 12 noon on March 15, 2011.

ADDRESSES: Meeting to be held at Administrative Conference of the United States, Suite 706 South, 1120 20th Street, NW., Washington, DC 20036. Submit comments to either of the following:

(1) E-mail: Comments@acus.gov, with “Contractor Ethics” in the subject line; or

(2) Mail: Contractor Ethics Comments, Administrative Conference of the United States, Suite 706 South, 1120 20th Street, NW., Washington, DC 20036.

FOR FURTHER INFORMATION CONTACT: Reeve T. Bull, Designated Federal Officer, Administrative Conference of the United States, Suite 706 South, 1120 20th Street, NW., Washington, DC 20036; Telephone 202-480-2080.

SUPPLEMENTARY INFORMATION: The Administrative Conference of the United States (ACUS) is charged with developing recommendations for the improvement of Federal administrative procedures (5 U.S.C. 591).

The Conference has engaged a Professor of Law at Washington University in St. Louis School of Law, Kathleen Clark, to research and prepare a report regarding whether ethics regulations analogous to those applicable to government employees should apply to government contractors and, if so, how such regulations should be imposed (the “Ethics Report”). A copy of the Ethics Report is available at http://www.acus.gov. The Committee on Administration met on November 3, 2010 to discuss the Ethics Report and again on December 9, 2010 to discuss a draft recommendation on expanding the ethics rules applicable to government contractors and their employees.

From 9 a.m. to 12 noon on March 16, 2011, the committee will discuss a revised draft recommendation based on the Ethics Report and on the discussion from the first two meetings. A copy of the draft recommendation will be made available at http://www.acus.gov prior to the March 16, 2011 meeting. This meeting will be open to the public and may end prior to 12 noon if business is concluded prior to that time. Members of the public are invited to attend the meeting in person, subject to space limitations, and the Conference will also provide remote public access to the meeting.

Anyone who wishes to attend the meeting in person is asked to RSVP to Comments@acus.gov. Remote access information will be posted on the Conference's Web site, http://www.acus.gov, by no later than March 14, 2011, and will also be available by the same date by calling the phone number listed above. Members of the public who attend the Committee's meeting may be permitted to speak only at the discretion of the Committee Chair, with unanimous approval of the Committee. The Conference welcomes the attendance of the public and will make every effort to accommodate persons with physical disabilities or special needs. If you need special accommodations due to a disability, please inform the Designated Federal Officer no later than 7 days in advance of the meeting using the contact information provided above.

Members of the public may submit written comments on the report to either of the addresses listed above no later than 12 noon on March 15, 2011. All comments will be delivered to the Designated Federal Officer listed on this notice. The Designated Federal Officer will post all comments that relate to the subject of the meeting after the close of the comments period.

Dated: February 23, 2011.
Jonathan R. Siegel,
Director of Research & Policy.

[FR Doc. 2011-4335 Filed 2-25-11; 8:45 am]

BILLING CODE 6110-01-P